DEPARTMENT OF TRANSPORTATION

Maritime Administration

Marine Transportation System National Advisory Council

ACTION: National Advisory Council Public Meeting.

SUMMARY: The Maritime Administration announces that the Marine Transportation System National Advisory Council (MTSNAC) will hold its first meeting to discuss the Council's role in attaining the desired MTS and formulate an initial Council Action Plan. A public comment period is scheduled for 2:45 to 3:15. To provide time for as many people to speak as possible, speaking time for each individual will be limited to three minutes. Members of the public who would like to speak are asked to contact Kathleen Dunn by May 22, 2000. Commenters will be placed on the agenda in the order in which notifications are received. If time allows, additional comments will be permitted. Oral comments must be submitted in writing at the meeting. Additional written comments are welcome and must be filed by June 8, 2000.

DATES: The meeting will be held on Wednesday May 24, 2000, from 8:30 AM to 5 PM.

ADDRESSES: The meeting will be held in Ballrooms A and B of the Commonwealth Ballroom of the Holiday Inn and Suites, Historic District Alexandria, 625 First Street, Alexandria, Virginia 22314.

FOR FURTHER INFORMATION CONTACT: Kathleen R. Dunn, (202) 366-2307; Maritime Administration, MAR 810, Room 7209, Washington, DC 20590; Kathleen.Dunn@marad.dot.gov.

Authority: 5 U.S.C. App 2, Sec.9(a)(2); 41 CFR 101-6.1005; DOT Order 1120.3B.

Dated: May 5, 2000.
Joel C. Richard,
Secretary, Maritime Administration.

[FR Doc. 00-11747 Filed 5-9-00; 8:45 am]

BILLING CODE 4910-81-P